DEPARTMENT OF TRANSPORTATION

Federal Aviation Administration

14 CFR Part 39

[Docket No. 2002-NM-163-AD; Amendment 39-13595; AD 2004-09-06]

RIN 2120-AA64

Airworthiness Directives; Airbus Model A319, A320, and A321 Series Airplanes

AGENCY: Federal Aviation Administration, DOT.

ACTION: Final rule.

SUMMARY: This amendment supersedes an existing airworthiness directive (AD), applicable to all Airbus Model A319, A320, and A321 series airplanes. That AD currently requires identification of the part number and serial number of the parking brake operated valve (PBOV); and, if necessary, inspection of the PBOV, including a functional check of the PBOV, and follow-on and corrective actions. That AD also provides for an optional terminating action for the requirements of that AD. This new action mandates the previously optional terminating action, which terminates the inspection requirements of the previous AD. The actions specified by this AD are intended to prevent leakage of hydraulic fluid from the PBOV, which could cause the loss of the parking brake accumulator, and render the alternate braking system and the parking/emergency braking system inoperative, as well as causing the loss of function of the yellow hydraulic system (which provides all or part of the hydraulics for the elevator, rudder, aileron, flaps, stabilizer, yaw damper, pitch and yaw feel systems and autopilot, and certain spoilers).

DATES: Effective June 2, 2004.

The incorporation by reference of Airbus Service Bulletin A320-32A1233, Revision 01, excluding Appendix 01, dated October 1, 2001, as listed in the regulations, is approved by the Director of the Federal Register as of June 2, 2004.

The incorporation by reference of Airbus Service Bulletin A320-32A1233, including Appendix 01, dated August 16, 2001, as listed in the regulations, was approved previously by the Director of the Federal Register as of May 8, 2002 (67 FR 19652, April 23, 2002).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) by superseding AD 2002-08-13, amendment 39-12721 (67 FR 19652, April 23, 2002), which is applicable to all Airbus Model A319, A320, and A321 series airplanes, was published in the Federal Register on January 26, 2004 (69 FR 3535). The action proposed to continue to require identification of the part number and serial number of the parking brake operated valve (PBOV); and, if necessary, inspection of the PBOV, including a functional check of the PBOV, and follow-on and corrective actions. The action also proposed to mandate the optional terminating action, which would terminate the inspection requirements of the previous AD.

Comments

Interested persons have been afforded an opportunity to participate in the making of this amendment. Due consideration has been given to the single comment received.

Request To Change Applicability

One commenter, the manufacturer, requests that the FAA change the applicability statement to designate the part number and serial numbers of the affected PBOV(s). The commenter states no rationale for its request.

We do not agree that the change requested by the commenter is necessary. The applicability of this AD (“All Model A319, A320, and A321 series airplanes, certificated in any category”) is identical to that in AD 2002-08-13. This AD restates certain requirements of that AD, including the requirement to identify the part number and serial number of the PBOV to determine whether the PBOV is affected. Since this action is restated in this AD, it would be redundant to state the part number and serial numbers of the affected PBOV(s) in the applicability statement. Also, the requirement in paragraph (e) of this new AD specifies repair or replacement of PBOVs having the affected part number and serial numbers. We find no justification to alter the requirements of this AD. Therefore, we have not changed the final rule in this matter.

Changes Made to This Final Rule

Operators should note that Airbus Service Bulletin A320-32A1233, including Appendix 01, dated August 16, 2001, listed in paragraph (a) of this AD, was previously incorporated by reference in AD 2002-08-13, amendment 39-12721 (67 FR 19652, April 23, 2002). The citation for that service bulletin “included” Appendix 01, which consisted of an inspection report. According to the Office of the Federal Register's guidelines for materials previously incorporated by reference, we must restate the document citation exactly as it appeared in the original incorporation. However, it was not our intent to require accomplishment of that report.

Operators should note that we have added new paragraph (h) to this final rule (and reidentified subsequent paragraphs) to clarify that submission of the inspection report contained in Appendix 01 of the referenced service bulletins is not required.

Conclusion

After careful review of the available data, including the comment noted above, the FAA has determined that air safety and the public interest require the adoption of the rule with the change described previously. The FAA has determined that this change will neither increase the economic burden on any operator nor increase the scope of the AD.

Cost Impact

There are approximately 333 airplanes of U.S. registry that will be affected by this AD. The new requirements of this AD add no additional economic burden. The current costs for this AD are as follows:

The actions that are currently required by AD 2002-08-13, and that are also required by this AD, take approximately 2 work hours per airplane to accomplish, at an average labor rate of $65 per work hour. Based on these figures, the cost impact of the currently required actions on U.S. operators is estimated to be $43,290 or $130 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12721 (67 FR 19652, April 23, 2002), and by adding a new airworthiness directive (AD), amendment 39-13595, to read as follows:

2004-09-06 Airbus: Amendment 39-13595, Docket 2002 NM-163-AD. Supersedes AD 2002-08-13, Amendment 39-12721.

Applicability: All Model A319, A320, and A321 series airplanes, certificated in any category.

Compliance: Required as indicated, unless accomplished previously.

To prevent leakage of hydraulic fluid from the parking brake operated valve (PBOV), which could cause the loss of the parking brake accumulator, and render the alternate braking system and the parking/emergency braking system inoperative, as well as causing the loss of function of the yellow hydraulic system (which provides all or part of the hydraulics for the elevator, rudder, aileron, flaps, stabilizer, yaw damper, pitch and yaw feel systems and autopilot, and certain spoilers); accomplish the following:

Restatement of Requirements of AD 2002-08-13

Inspection and Functional Check

(a) Within 7 days after May 8, 2002 (the effective date of AD 2002-08-13, amendment 39-12721), identify the part number and serial number of the PBOV to determine whether the PBOV is an affected part, as identified by Airbus Service Bulletin A320-32A1233, dated August 16, 2001; or Revision 01, dated October 1, 2001.

(1) If the PBOV is NOT an affected part: No further action is required by this paragraph.

(2) If the PBOV is an affected part: Except as required by paragraph (b) of this AD, prior to further flight, test the PBOV in accordance with the service bulletin; and thereafter perform follow-on and corrective actions (including repetitive tests and repair of the PBOV or replacement with a serviceable PBOV) at the time specified by and in accordance with the service bulletin, as applicable.

(b) If Airbus Service Bulletin A320-32A1233, dated August 16, 2001; or Revision 01, dated October 1, 2001; specifies to contact the manufacturer for corrective action: Prior to further flight, perform the corrective action in accordance with a method approved by either the Manager, International Branch, ANM-116, FAA, Transport Airplane Directorate, or the Direction Générale de l'Aviation Civile (DGAC) (or its delegated agent).

Optional Terminating Action

(c) Replacement of the PBOV with a new, non-affected PBOV terminates the requirements of this AD. Affected PBOVs are identified in Airbus Service Bulletin A320-32A1233, dated August 16, 2001; or Revision 01, dated October 1, 2001.

Parts Installation

(d) As of May 8, 2002 (the effective date of AD 2002-08-13), no person may install an affected PBOV on any airplane, unless that PBOV is in compliance with all applicable requirements of this AD. Affected PBOVs are identified by Airbus Service Bulletin A320-32A1233, dated August 16, 2001; or Revision 01, dated October 1, 2001.

New Requirements of This AD

Repair or Replace

(e) Within 9 months after the effective date of this AD, repair or replace all the PBOVs identified during the inspection required by paragraph (a) of this AD as having part number A25315-1, and having a serial number between H2372 and H2989 inclusive, that are not identified with the letter “V” or “VF+E.” Repair or replace the PBOVs in accordance with the Accomplishment Instructions of Airbus Service Bulletin A320-32A1233, Revision 01, dated October 1, 2001.

Note 1: The service bulletin refers to Messier-Bugatti Service Bulletin A25315-32-3215, Revision 1, dated November 26, 2001, as an additional source of service information for the PBOV repair or replacement.

Terminating Action

(f) Repair or replacement of the PBOV per paragraph (e) of this AD terminates the requirements of this AD.

Actions Done Per Previous Issue of Service Bulletin

(g) Repairs or replacements done before the effective date of this AD in accordance with Airbus Service Bulletin A320-32A1233, dated August 16, 2001, are considered acceptable for compliance with the applicable actions specified in this AD.

No Reporting Requirement

(h) Although the service bulletins referenced in this AD specify to submit certain information to the manufacturer, this AD does not include such a requirement.

Alternative Methods of Compliance

(i)(1) In accordance with 14 CFR 39.19, the Manager, International Branch, ANM-116, is authorized to approve alternative methods of compliance for this AD.

(2) Alternative methods of compliance, approved previously per AD 2002-08-13, amendment 39-12721, are approved as alternative methods of compliance with this AD.

Incorporation by Reference

(j) Unless otherwise specified in this AD, the actions shall be done in accordance with Airbus Service Bulletin A320-32A1233, including Appendix 01, dated August 16, 2001; or Airbus Service Bulletin A320-32A1233, Revision 01, excluding Appendix 01, dated October 1, 2001; as applicable.

(1) The incorporation by reference of Airbus Service Bulletin A320-32A1233, Revision 01, excluding Appendix 01, dated October 1, 2001; is approved by the Director of the Federal Register in accordance with 5 U.S.C. 552(a) and 1 CFR part 51.

(2) The incorporation by reference of Airbus Service Bulletin A320-32A1233, including Appendix 01, dated August 16, 2001; was approved previously by the Director of the Federal Register as of May 8, 2002 (67 FR 19652, April 23, 2002).

(3) Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 2: The subject of this AD is addressed in French airworthiness directive 2001-384(B) R1, dated March 20, 2002.

Effective Date

(k) This amendment becomes effective on June 2, 2004.

Issued in Renton, Washington, on April 16, 2004.
Michael J. Kaszycki,
Acting Manager, Transport Airplane Directorate, Aircraft Certification Service.

[FR Doc. 04-9379 Filed 4-27-04; 8:45 am]

BILLING CODE 4910-13-P